DEPARTMENT OF HEALTH AND HUMAN SERVICES

Office of the Secretary

Delegation of Authorities

Notice is hereby given that I have delegated to the Deputy Secretary within the Office of the Secretary (OS)/Immediate Office of the Secretary (IOS)/Office of the Deputy Secretary the authority vested in me as the Secretary of Health and Human Services (HHS) pursuant to section 41 U.S.C. 4712(c)(1), to issue an order denying relief as a final agency action for cases in which the Office of the Inspector General (OIG)/Office of Investigations has found allegations of whistleblower retaliation to be unsubstantiated. This delegation supersedes any and all delegations of authority within IOS or in any other U.S. Department of Health and Human Services Operating Division or Staff Division relating to denying relief as a final agency action for unsubstantiated whistleblower complaints as determined by OIG (pursuant to 41 U.S.C. 4712(c)(1)). I hereby affirm and ratify any actions taken by the Deputy Secretary of HHS, or other officials, which involve the exercise of these authorities prior to the effective date of this delegation.

This delegation of authority is effective immediately.

This delegation of authority may be re-delegated.

This delegation of authority does not impact any other delegations of authority within any other Department of Health and Human Services Operating Division or Staff Division.

Xavier Becerra,
Secretary.

[FR Doc. 2024-11683 Filed 5-28-24; 8:45 am]

BILLING CODE P